DEPARTMENT OF COMMERCE

National Oceanic and Atmospheric Administration

[RTID 0648-XA532]

Marine Mammals; File No. 23807; Correction

AGENCY: National Marine Fisheries Service (NMFS), National Oceanic and Atmospheric Administration (NOAA), Commerce.

ACTION: Notice; receipt of application for permit amendment; correction.

SUMMARY: On September 28, 2020, NMFS published a notice in the Federal Register announcing that NMFS had received an application for an amendment to Permit No. 23807 from Plimsoll Productions Limited, 51-55 Whiteladies Road, Bristol, BS8 2LY, United Kingdom (Responsible Party: Anuschka Schofield). That document did not reflect that filming may also occur up to 3 miles offshore from Colleton County, SC. This document corrects this error. All other information is unchanged.

FOR FURTHER INFORMATION CONTACT: Erin Markin or Carrie Hubard, (301) 427-8401.

SUPPLEMENTARY INFORMATION: The notice of receipt for a permit amendment (85 FR 60767; September 28, 2020) did not reflect that filming activities will occur up to 3 miles offshore of Colleton County, SC. In fact, the permit holder has requested to film up to 3 miles offshore from Charleston and Colleton Counties.

All other information contained in the document is unchanged.

Correction

In the Federal Register of September 28, 2020, in FR Doc. 2020-21334, on page 60767, in the second column, in the second paragraph under the SUPPLEMENTARY INFORMATION heading, the third sentence is corrected to read as follows:

In addition, the permit holder is requesting to expand the filming area to up to 3 miles offshore from Charleston and Colleton Counties.

Dated: September 30, 2020.
Julia Marie Harrison,
Chief, Permits and Conservation Division, Office of Protected Resources, National Marine Fisheries Service.

[FR Doc. 2020-22032 Filed 10-5-20; 8:45 am]

BILLING CODE 3510-22-P